DEPARTMENT OF JUSTICE

Office of Community Oriented Policing Services; Agency Information Collection Activities: Proposed Collection; Comments Requested

ACTION: 60-Day Notice of Information Collection Under Review: Reinstatement, with change, of a previously approved collection for which approval has expired; Universal Hiring Program (UHP) and COPS In Schools (CIS) Grant Applications.

The Department of Justice (DOJ), Office of Community Oriented Policing Services (COPS) has submitted the following information collection request to the Office of Management and Budget (OMB) for review and approval in accordance with the Paperwork Reduction Act of 1995. The proposed information collection is published to obtain comments from the public and affected agencies.

Comments are encouraged and will be accepted December 26, 2001. This process is conducted in accordance with 5 CFR 1320.10.

If you have comments especially on the estimated public burden or associated response time, suggestions, or need a copy of the proposed information collection instrument with instructions or additional information, please contact Gretchen DePasquale, 202-305-7780, Office of Community Oriented Policing Services, U.S. Department of Justice, 1100 Vermont NW., Washington, DC 20530.

Written comments and suggestions from the public and affected agencies concerning the proposed collection of information are encouraged. Your comments should address one or more of the following four points:

(1) Evaluate whether the proposed collection of information is necessary for the proper performance of the functions of the agency, including whether the information will have practical utility;

(2) Evaluate the accuracy of the agency's estimate of the burden of the proposed collection of information, including the validity of the methodology and assumptions used;

(3) Enhance the quality, utility, and clarity of the information to be collected; and

(4) Minimize the burden of the collection of information on those who are to respond, including through the use of appropriate automated, electronic, mechanical, or other technological collection techniques or other forms of information technology, e.g., permitting electronic submission of responses.

Overview of This Information Collection

(1) Type of Information Collection: Reinstatement, with change, of a previously approved collection instrument.

(2) Title of the Form/Collection: Universal Hiring Program and COPS In Schools Grant Applications.

(3) Agency form number, if any, and the applicable component of the Department of Justice sponsoring the collection: Form Number: none, Office of Community Oriented Policing Services, Department of Justice.

(4) Affected public who will be asked or required to respond, as well as a brief abstract: Primary: State, Local or Tribal Government Other: none Abstract: The application will be used by state, local and tribal law enforcement agencies to apply for Federal funding which will be used to increase the number of sworn law enforcement positions in their agencies. These grants are meant to enhance law enforcement infrastructures and community policing efforts in both local communities (Universal Hiring Program) and local schools (COPS in Schools).

(5) An estimate of the total number of respondents and the amount of time estimated for an average respondent to respond: There are an estimated 2,000 respondents for UHP, and 1,500 for the CIS program. The amount of estimated time required for the average respondent to respond is: 9 hours per response.

(6) An estimate of the total public burden (in hours) associated with the collection: There are 18,000 burden hours annually for UHP and 13,500 for CIS, for a total of 31,500 hours.

If additional information is required contact: Mrs. Brenda Dyer, Department Deputy Clearance Officer, Information Management and Security Staff, Justice Management Division, United States Department of Justice, 601 D Street NW., Patrick Henry Building, Suite 1600, NW., Washington, DC 20530.

Dated: October 23, 2001.
Brenda E. Dyer,
Deputy Clearance Officer, United States Department of Justice.

[FR Doc. 01-27036 Filed 10-26-01; 8:45 am]

BILLING CODE 4410-AT-M